DEPARTMENT OF HOUSING AND URBAN DEVELOPMENT

[Docket No. FR-5753-N-08]

60-Day Notice of Proposed Information Collection: Survey Questions for Small Contractor Marketplace

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 28, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: James Baltazar, Management Analyst, FPM, Department of Housing and Urban Development, 920 Second Avenue South, Suite 1300; email James Baltazar at james.a.baltazar@hud.gov or telephone 612-370-3000. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Survey Form for Small Contractor Initiative.

OMB Approval Number: N/A.

Type of Request: New.

Description of the need for the information and proposed use: Survey collection form for the Small Contractor Initiative. HUD is partnering with the U.S. Small Business Administration (SBA) and BusinessUSA to promote the HUD Small Contractor Initiative through the BusinessUSA FBOpen Web site. The Web site will be used by HUD and other federal agencies to notify small contractors for bid opportunities nationwide in one place online. Surveys will be collected from grantees in the BusinessUSA online system and follow-up user surveys for different user groups such as HUD grantees, contracting companies, lenders, surety bond agents, and business counseling organizations.

Respondents: State, local, and tribal governments. HUD grantees, contracting companies, lenders, surety bond agents, and business counseling organizations.

Estimated Number of Respondents: 5,000.

Estimated Number of Responses: 20,000.

Frequency of Response: 4.

Average Hours per Response: 1.

Total Estimated Burdens: 20,000.

Information collection | Number of respondents | Frequency of response | Responses per annum | Burden hour per response | Annual burden hours | Hourly cost per response | Annual cost
Survey Form | 5,000 | 4 | 20,000 | 1 | 20,000 | $0 | $0
Total | 5,000 | 4 | 20,000 | 1 | 20,000 | $0 | $0

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: September 22, 2014.
Clifford Taffet,
General Deputy Assistant Secretary for Community Planning and Development.

[FR Doc. 2014-23116 Filed 9-26-14; 8:45 am]

BILLING CODE 4210-67-P